DEPARTMENT OF TRANSPORTATION

Federal Aviation Administration

14 CFR Parts 61 and 141

[Docket No.: FAA-2014-0987; Amdt. Nos. 61-133, 141-18]; RIN 2120-AK62

Aviation Training Device Credit for Pilot Certification

AGENCY: Federal Aviation Administration (FAA), DOT.

ACTION: Direct final rule.

SUMMARY: This rulemaking relieves burdens on pilots seeking to obtain aeronautical experience, training, and certification by increasing the allowed use of aviation training devices. These training devices have proven to be an effective, safe, and affordable means of obtaining pilot experience. These actions are necessary to bring the regulations in line with current needs and activities of the general aviation training community and pilots.

DATES: Effective January 20, 2015.

Send comments on or before January 2, 2015. If the FAA receives an adverse comment or notice of intent to file an adverse comment, the FAA will advise the public by publishing a document in the Federal Register before the effective date of the final rule, which may withdraw this direct final rule in whole or in part.

ADDRESSES: Send comments identified by docket number FAA-2014-0987 using any of the following methods:

• Federal eRulemaking Portal: Go to http://www.regulations.gov and follow the online instructions for sending your comments electronically.

• Mail: Send comments to Docket Operations, M-30; U.S. Department of Transportation (DOT), 1200 New Jersey Avenue SE., Room W12-140, West Building Ground Floor, Washington, DC 20590-0001.

• Hand Delivery or Courier: Take comments to Docket Operations in Room W12-140 of the West Building Ground Floor at 1200 New Jersey Avenue SE., Washington, DC, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC, between 9 a.m. and 5 p.m., Monday through Friday, except Federal holidays.

FOR FURTHER INFORMATION CONTACT: For technical questions concerning this action, contact Marcel Bernard, Airmen Certification and Training Branch, Flight Standards Service, AFS-810, Federal Aviation Administration, 55 M Street SE., 8th floor, Washington, DC 20003-3522; telephone (202) 385-9616; email marcel.bernard@faa.gov.

For legal questions concerning this action, contact Anne Moore, International Law, Legislation, and Regulations Division, Office of the Chief Counsel, AGC-200, Federal Aviation Administration, 800 Independence Avenue SW., Washington, DC 20591; telephone (202) 267-8018; email anne.moore@faa.gov.

SUPPLEMENTARY INFORMATION:

Authority for This Rulemaking

The FAA's authority to issue rules on aviation safety is found in Title 49 of the United States Code (49 U.S.C.). Subtitle I, Section 106 describes the authority of the FAA Administrator. Subtitle VII, Aviation Programs, describes in more detail the scope of the agency's authority.

This rulemaking is promulgated under the authority described in 49 U.S.C. 106(f), which establishes the authority of the Administrator to promulgate regulations and rules; 49 U.S.C. 44701(a)(5), which requires the Administrator to promote safe flight of civil aircraft in air commerce by prescribing regulations and setting minimum standards for other practices, methods, and procedures necessary for safety in air commerce and national security; and 49 U.S.C. 44703(a), which requires the Administrator to prescribe regulations for the issuance of airman certificates when the Administrator finds, after investigation, that an individual is qualified for, and physically able to perform the duties related to, the position authorized by the certificate.

The Direct Final Rule Procedure

The FAA is adopting this direct final rule without prior notice and prior public comment as a direct final rule because, due to the relieving nature of the provisions, we do not anticipate any adverse comments. This direct final rule concerns the allowances for using aviation training devices (ATD) toward the aeronautical experience requirements for an instrument rating. In 2009, the FAA issued a final rule that placed limits on the use of ATDs for instrument training. These regulatory limits were, in fact, more restrictive than what the FAA historically had permitted through letter of authorization (LOA). Due to public reliance on previous letters of authorization and the long history of allowing higher levels of ATD usage, the FAA believes it is unlikely to receive any adverse comments.

The Regulatory Policies and Procedures of the Department of Transportation (DOT) (44 FR 1134; February 26, 1979) provide that to the maximum extent possible, operating administrations for the DOT should provide an opportunity for public comment on regulations issued without prior notice. Accordingly, the FAA invites interested persons to participate in this rulemaking by submitting written comments, data, or views. The agency also invites comments relating to the economic, environmental, energy, or federalism impacts that might result from adopting this final rule.

A direct final rule will take effect on a specified date unless the FAA receives an adverse comment or notice of intent to file an adverse comment within the comment period. An adverse comment explains why a rule would be inappropriate, or would be ineffective or unacceptable without a change. It may challenge the rule's underlying premise or approach. Under the direct final rule process, the FAA does not consider the following types of comments to be adverse:

(1) A comment recommending another rule change, in addition to the change in the direct final rule at issue. The FAA considers the comment adverse, however, if the commenter states why the direct final rule would be ineffective without the change.

(2) A frivolous or insubstantial comment.

If the FAA receives an adverse comment or notice of intent to file an adverse comment, the FAA will advise the public by publishing a document in the Federal Register before the effective date of the final rule. This document may withdraw the direct final rule in whole or in part. If the FAA withdraws a direct final rule because of an adverse comment, the FAA may incorporate the commenter's recommendation into another direct final rule or may publish a notice of proposed rulemaking.

If the FAA does not receive an adverse comment or notice of intent to file an adverse comment, the FAA will publish a confirmation document in the Federal Register, generally within 15 days after the comment period closes. The confirmation document tells the public the effective date of the rule.

See the “Additional Information” section for information on how to comment on this direct final rule and how the FAA will handle comments received. The “Additional Information” section also contains related information about the docket, privacy, the handling of proprietary or confidential business information. In addition, there is information on obtaining copies of related rulemaking documents.

I. Discussion of the Direct Final Rule

Since the 1970s, the FAA has gradually expanded the use of flight simulation for training—first permitting simulation to be used in air carrier training programs and eventually permitting pilots to credit time in devices toward the aeronautical experience requirements for airman certification and recency. Currently, Title 14 of the Code of Federal Regulations (14 CFR) part 60 governs the qualification of flight simulation training devices (FSTD), which include full flight simulators (FFSs) and flight training devices (FTDs) levels 4 through 7. The FAA has, however, approved other devices including ATDs for use in pilot certification training, under the authority provided in 14 CFR 61.4(c).¹

¹ Section 61.4(c) states that the “Administrator may approve a device other than a flight simulator or flight training device for specific purposes.”

For over 30 years, the FAA has issued letters of authorization (LOAs) to manufacturers of ground trainers, personal computer-based aviation training devices (PCATD), FTDs (levels 1 through 3), basic aviation training devices (BATD), and advanced aviation training devices (AATD). These LOAs were based on guidance provided in advisory circulars that set forth the qualifications and capabilities for the devices. Prior to 2008, most LOAs were issued under the guidance provided in advisory circular AC 61-126, Qualification and Approval of Personal Computer-Based Aviation Training Devices, and AC 120-45, Airplane Flight Training Device Qualification. Since July 2008, the FAA has approved devices in accordance with Advisory Circular 61-136, FAA Approval of Basic Aviation Training Devices (BATD) and Advanced Aviation Training Devices (AATD).

In 2009, the FAA issued a final rule that for the first time introduced the term “aviation training device” into the regulations and placed express limits on the amount of instrument time in an ATD that could be credited toward the aeronautical experience requirements for an instrument rating.²

² In a 2007 NPRM, the FAA proposed to limit the time in a personal computer-based aviation training device that could be credited toward the instrument rating. Pilot, Flight Instructor, and Pilot School Certification NPRM, 72 FR 5806 (February 7, 2007). Three commenters recommended that the FAA use the terms “basic aviation training device” (BATD) and “advanced aviation training device” (AATD). Pilot, Flight Instructor, and Pilot School Certification Final Rule, 74 FR 42500 (August 21, 2009) (“2009 Final Rule”). In response to the commenters, the FAA changed the regulatory text in the final rule to “aviation training device,” noting BATDs and AATDs “as being aviation training devices (ATD) are defined” in an advisory circular.

Since the 2009 final rule, § 61.65(i) has provided that no more than 10 hours of instrument time received in an ATD may be credited toward the instrument time requirements of that section. In addition, appendix C to part 141 permits an ATD to be used for no more than 10% of the total flight training hour requirements of an approved course for an instrument rating.

Despite the limitations on the use of ATDs that were set forth in the 2009 final rule, the FAA had issued hundreds of LOAs to manufacturers of devices that permitted ATDs (as well as ground trainers, PCATDs, and FTDs (levels 1 through 3)) to be used to a greater extent than was ultimately set forth in the regulations. Even after publication of the 2009 final rule, the FAA continued to issue LOAs in excess of the express limitations in the regulations. On January 2, 2014, the FAA published a notice of policy to reissue LOAs to reflect current regulatory requirements. 79 FR 20. The FAA concluded that it could not use LOAs to exceed express limitations that had been placed in the regulations through notice and comment rulemaking.

As discussed further in the following two sections, the FAA is amending the regulations governing the use of ATDs to increase the use of these devices for instrument training requirements above the levels established in the 2009 final rule. In developing this direct final rule, the FAA notes that ATD development has advanced to an impressive level of capability. Many ATDs can simulate weather conditions with variable winds, variable ceilings and visibility, icing, turbulence, high definition (HD) visuals, hundreds of different equipment failure scenarios, navigation specific to current charts and topography, specific navigation and communication equipment use, variable “aircraft specific” performance, and more. The visual and motion component of some of these devices permit maneuvers that require outside visual references in an aircraft to be successfully taught in an AATD. Many of these simulation capabilities were not possible in PCATDs and BATDs that the FAA approved for 10 hours of instrument time.

The FAA believes that permitting pilots to log increased time in ATDs will encourage pilots to practice maneuvers until they are performed to an acceptable level of proficiency. In an ATD, a pilot can replay the training scenario, identify any improper action, and determine corrective actions without undue hazard or risk to persons or property. In this fashion, a pilot can continue to practice tasks and maneuvers in a safe, effective, and cost efficient means of maintaining proficiency.

A. Credit for Instrument Time for an Instrument Rating

Because of the proven capability of some ATDs, the FAA is increasing the maximum time that may be credited in an ATD toward the instrument time requirements for an instrument rating under § 61.65(i). Upon the effective date of this direct final rule, a person will be permitted to credit a maximum of 20 hours of instrument time in an approved ATD toward the requirements for an instrument rating.³ Devices that qualify as AATDs will be authorized for up to 20 hours of instrument time. Devices that qualify as BATDs will be authorized for a maximum of 10 hours of instrument time. In light of this difference, pilots must—as required by current regulations—include in their logbooks the type and identification of any ATD that is used to accomplish aeronautical experience requirements for a certificate, rating, or recent flight experience. 14 CFR 61.51(b)(1)(iv). The FAA is retaining the existing limit of 20 hours of combined time in FFS, FTD, and ATDs that may be credited towards the aeronautical experience requirements for an instrument rating.

³ As required under § 61.51(g)(4), to log instrument time in an ATD for the purpose of a certificate or rating, an authorized instructor must be present.

B. Approved Instrument Rating Courses

The FAA is also amending appendix C to part 141 to increase the limit on the amount of training hours that may be accomplished in an ATD in an approved course for an instrument rating. With this direct final rule, an ATD may be used for no more than 40 percent of the total flight training hour requirements for an instrument rating. The FAA notes that this direct final rule does not change the current provision in appendix C, which provides that credit for training in FFS, FTDs, and ATDs, if used in combination, cannot exceed 50 percent of the total flight training hour requirements of an instrument rating course.

In addition, the FAA is amending § 141.41 to clarify the existing qualification and approval requirement for FSTDs and to add the qualification and approval of ATDs by the FAA, which is currently conducted pursuant to § 61.4(c).

C. View-Limiting Device

Under § 61.51(g), a person may log instrument time only for that flight time when the person operates an aircraft solely by reference to the instruments under actual or simulated conditions. When instrument time is accomplished in an aircraft, a pilot wears a view-limiting device to simulate instrument conditions and ensure that he or she is flying without utilizing outside visual references.

Currently, § 61.65(i) requires a pilot who is accomplishing instrument time in an ATD to wear a view-limiting device. This requirement is not necessary because ATDs do not afford outside references, other than the simulated visual component that can be configured to limit the visibility level as desired. The purpose of a view-limiting device is to prevent a pilot (while training in an aircraft during flight) from having outside visual references. These references are not available in a training device (which is located in a dedicated room or indoor location). In fact, the majority of these devices have a simulated visual display that can be configured to be unavailable or represent “limited visibility” conditions that preclude any need for a view-limiting device to be worn by the student.

In an ATD (or FSTD), a pilot has no opportunity to look outside for any useful visual references pertaining to the simulation. This lack of visual references requires the pilot to give his or her full attention to the flight instruments which is the goal of any instrument training or experience. The FAA believes that using a training device can be useful because it trains the pilot to focus on, appropriately scan and interpret the flight instruments. All training devices that incorporate a visual system can be configured to the desired visibility level required for that particular lesson. Because of this same capability, use of a view-limiting device is not required.

When the FAA introduced § 61.65(i)(4) requiring view-limiting devices in the 2009 final rule, the preamble was silent as to why a view-limiting device was necessary. 74 FR 42500, 42523. Based on comments from industry, the FAA has determined that due to the sophistication of the flight visual representation for ATDs and the capability of presenting various weather conditions appropriate to the training scenario, a view-limiting device is unnecessary. It is unnecessary to limit the view when the training device is designed to simulate instrument conditions.

The FAA is revising § 61.65(i)(4) to eliminate the requirement that pilots, accomplishing instrument time in an ATD wear a view-limiting device. The FAA emphasizes, however, that a pilot—whether in an aircraft, FFS, FTD, or ATD—may log instrument time only when the pilot is operating solely by reference to the instruments under actual or simulated conditions. If a pilot is using an ATD and the device is providing visual references upon which the pilot is relying, this would not constitute instrument time under § 61.51(g).

III. Effective Date for Rule Provisions

The FAA is making the provisions of this direct final rule effective 45 days after the date of publication in the Federal Register. The FAA reiterates that a direct final rule takes effect on a specified date unless the FAA receives an adverse comment or notice of intent to file an adverse comment within the comment period.

IV. Advisory Circulars and Other Guidance Materials

To further implement this direct final rule, the FAA is revising the following Advisory Circulars and FAA Orders.

AC 61-136, FAA Approval of Basic Aviation Training Devices (BATD) and Advanced Aviation Training Devices (AATD), has been revised to accommodate all the new ATD provisions.

FAA Order 8900.1, Flight Standards Information Management System, Vol. 11, Chapter 10, Basic and Advanced Aviation Training Device, Sec. 1, Approval and Authorized Use under 14 CFR parts 61 and 141 guidance concerning ATD's is also being revised.

V. Regulatory Notices and Analyses

A. Regulatory Evaluation

Changes to Federal regulations must undergo several economic analyses. First, Executive Order 12866 and Executive Order 13563 direct that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, this Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this direct final rule.

In conducting these analyses, FAA has determined that this direct final rule: (1) Has benefits that justify its costs, (2) is not an economically “significant regulatory action” as defined in section 3(f) of Executive Order 12866, (3) is not “significant” as defined in DOT's Regulatory Policies and Procedures; (4) will not have a significant economic impact on a substantial number of small entities; (5) will not create unnecessary obstacles to the foreign commerce of the United States; and (6) will not impose an unfunded mandate on state, local, or tribal governments, or on the private sector by exceeding the threshold identified above. These analyses are summarized below.

Department of Transportation DOT Order 2100.5 prescribes policies and procedures for simplification, analysis, and review of regulations. If the expected cost impact is so minimal that a proposed or final rule does not warrant a full evaluation, this order permits that a statement to that effect and the basis for it to be included in the preamble if a full regulatory evaluation of the costs and benefits is not prepared. Such a determination has been made for this direct final rule. The reasoning for this determination follows:

The provisions included in this rule are either relieving or voluntary. The elimination of the requirement to use a view-limiting device is a relieving provision. The other two provisions are voluntary—additional ATD credit for instrument time for an instrument rating and additional ATD credit for approved instrument courses.

Persons who use the new provisions will do so only if the benefit they will accrue from their use exceeds the costs they might incur to comply. There is no cost incurred if people do not choose to comply with these provisions. Benefits will exceed the costs of a voluntary rule if just one person voluntarily complies.

Since this direct final rule will impose no new costs, provides regulatory relief for the use of view-limiting devices, and allows greater voluntary use of aviation training devices, the expected outcome will be a minimal impact with positive net benefits.

B. Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA.

However, if an agency determines that a rule is not expected to have a significant economic impact on a substantial number of small entities, section 605(b) of the RFA provides that the head of the agency may so certify and a regulatory flexibility analysis is not required. The certification must include a statement providing the factual basis for this determination, and the reasoning should be clear.

Most of the parties affected by this rule would be small businesses such as flight instructors, aviation schools, and fixed base operators. The general lack of publicly available financial information from these small businesses precludes a financial analysis of these small businesses. While there is likely a substantial number of small entities affected, the provisions of this direct final rule are either relieving (directly provides cost relief) or voluntary (provides benefits or costs only if a person voluntarily chooses to use the rule provision).

If an agency determines that a rulemaking will not result in a significant economic impact on a substantial number of small entities, the head of the agency may so certify under section 605(b) of the RFA. Therefore, as provided in section 605(b), the head of the FAA certifies that this rulemaking would not result in a significant economic impact on a substantial number of small entities.

C. International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such as the protection of safety, and does not operate in a manner that excludes imports that meet this objective. The statute also requires consideration of international standards and, where appropriate, that they be the basis for U.S. standards.

The FAA has assessed the potential effect of this direct final rule and determined that it would have only a domestic impact and therefore would not create unnecessary obstacles to the foreign commerce of the United States.

D. Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $151.0 million in lieu of $100 million.

This direct final rule does not contain such a mandate. Therefore, the requirements of Title II of the Act do not apply.

E. Paperwork Reduction Act

The Paperwork Reduction Act of 1995 (44 U.S.C. 3507(d)) requires that the FAA consider the impact of paperwork and other information collection burdens imposed on the public. The FAA has determined that there is no new requirement for information collection associated with this direct final rule.

F. International Compatibility and Cooperation

In keeping with U.S. obligations under the Convention on International Civil Aviation, it is FAA policy to conform to ICAO Standards and Recommended Practices to the maximum extent practicable. The FAA has reviewed the corresponding ICAO Standards and Recommended Practices and has identified no differences with these regulations.

G. Environmental Analysis

FAA Order 1050.1E identifies FAA actions that are categorically excluded from preparation of an environmental assessment or environmental impact statement under the National Environmental Policy Act in the absence of extraordinary circumstances. The FAA has determined this rulemaking action qualifies for the categorical exclusion identified in paragraph 312f and involves no extraordinary circumstances.

H. Administrative Procedure Act

An agency may find good cause to exempt a rule from certain provisions of the Administrative Procedure Act (5 U.S.C. 553), including notice of proposed rulemaking and the opportunity for public comment, if it is determined to be unnecessary, impracticable, or contrary to the public interest. This rule relieves regulatory restrictions by permitting persons to credit a maximum of 20 hours of instrument time in an approved ATD toward the requirements for an instrument rating under § 61.65(i). This rule also permits an ATD to be used for no more than 40 percent of the total flight training hour requirements for an instrument rating under 14 CFR part 141. Finally, this rule eliminates the requirement that pilots, accomplishing instrument time in an ATD, wear a view-limiting device.

Therefore, the FAA finds good cause to publish this action as a direct final rule. Please see the “Direct Final Rule Procedure” section for more information.

VII. Executive Order Determinations

A. Executive Order 13132, Federalism

The FAA has analyzed this rule under the principles and criteria of Executive Order 13132, Federalism. The agency has determined that this action would not have a substantial direct effect on the States, or the relationship between the Federal Government and the States, or on the distribution of power and responsibilities among the various levels of government, and, therefore, would not have Federalism implications.

B. Executive Order 13211, Regulations That Significantly Affect Energy Supply, Distribution, or Use

The FAA analyzed this rule under Executive Order 13211, Actions Concerning Regulations That Significantly Affect Energy Supply, Distribution, or Use (May 18, 2001). The agency has determined that it would not be a “significant energy action” under the executive order and would not be likely to have a significant adverse effect on the supply, distribution, or use of energy.

C. Executive Order 13609, Promoting International Regulatory Cooperation

Executive Order 13609, Promoting International Regulatory Cooperation, (77 FR 26413, May 4, 2012) promotes international regulatory cooperation to meet shared challenges involving health, safety, labor, security, environmental, and other issues and to reduce, eliminate, or prevent unnecessary differences in regulatory requirements. The FAA has analyzed this action under the policies and agency responsibilities of Executive Order 13609, and has determined that this action would have no effect on international regulatory cooperation.

VIII. Additional Information

A. Comments Invited

The FAA invites interested persons to participate in this rulemaking by submitting written comments, data, or views. The agency also invites comments relating to the economic, environmental, energy, or federalism impacts that might result from adopting this document. The most helpful comments reference a specific portion of the rule, explain the reason for any recommended change, and include supporting data. To ensure the docket does not contain duplicate comments, commenters should send only one copy of written comments, or if comments are filed electronically, commenters should submit only one time.

The FAA will file in the docket all comments it receives, as well as a report summarizing each substantive public contact with FAA personnel concerning this rulemaking. Before acting on this rule, the FAA will consider all comments it receives on or before the closing date for comments. The agency may change this rule in light of the comments it receives.

Proprietary or Confidential Business Information: Commenters should not file proprietary or confidential business information in the docket. Such information must be sent or delivered directly to the person identified in the FOR FURTHER INFORMATION CONTACT section of this document, and marked as proprietary or confidential. If submitting information on a disk or CD ROM, mark the outside of the disk or CD ROM, and identify electronically within the disk or CD ROM the specific information that is proprietary or confidential.

Under 14 CFR 11.35(b), if the FAA is aware of proprietary information filed with a comment, the agency does not place it in the docket. It is held in a separate file to which the public does not have access, and the FAA places a note in the docket that it has received it. If the FAA receives a request to examine or copy this information, it treats it as any other request under the Freedom of Information Act (5 U.S.C. 552). The FAA processes such a request under Department of Transportation procedures found in 49 CFR part 7.

B. Availability of Rulemaking Documents

An electronic copy of rulemaking documents may be obtained from the Internet by—

• Searching the Federal eRulemaking Portal (http://www.regulations.gov);

• Visiting the FAA's Regulations and Policies Web page at http://www.faa.gov/regulations_policies or

• Accessing the Government Printing Office's Web page at http://www.fdsys.gov.

Copies may also be obtained by sending a request to the Federal Aviation Administration, Office of Rulemaking, ARM-1, 800 Independence Avenue SW., Washington, DC 20591, or by calling (202) 267-9680. Commenters must identify the docket or notice number of this rulemaking.

All documents the FAA considered in developing this rule, including economic analyses and technical reports, may be accessed from the Internet through the Federal eRulemaking Portal referenced above.

C. Small Business Regulatory Enforcement Fairness Act

The Small Business Regulatory Enforcement Fairness Act of 1996 (SBREFA) requires FAA to comply with small entity requests for information or advice about compliance with statutes and regulations within its jurisdiction. A small entity with questions regarding this document may contact its local FAA official, or the person listed under the FOR FURTHER INFORMATION CONTACT heading at the beginning of the preamble. To find out more about SBREFA on the Internet, visit http://www.faa.gov/regulations_policies/rulemaking/sbre_act/.

List of Subjects

14 CFR Part 61

Aircraft, Airmen, Aviation safety, Teachers.

14 CFR Part 141

Airmen, Educational facilities, reporting and recordkeeping requirements, Schools.

The Amendment

In consideration of the foregoing, the Federal Aviation Administration amends chapter I of title 14, Code of Federal Regulations, as follows:

PART 61—CERTIFICATION: PILOTS, FLIGHT INSTRUCTORS, AND GROUND INSTRUCTORS

1. The authority citation for part 61 continues to read as follows:

Authority: 49 U.S.C. 106(f), 106(g), 40113, 44701-44703, 44707, 44709-44711, 45102-45103, 45301-45302.

2. Amend § 61.65 by revising paragraph (i) and adding paragraph (j) to read as follows:

§ 61.65 Instrument rating requirements.

* * * * *

(i) Use of an aviation training device. A maximum of 20 hours of instrument time received in an aviation training device may be credited for the instrument time requirements of this section if—

(1) The device is approved and authorized by the FAA;

(2) An authorized instructor provides the instrument time in the device; and

(3) The FAA approved the instrument training and instrument tasks performed in the device.

(j) A person may not credit more than 20 total hours of instrument time in a flight simulator, flight training device, aviation training device, or combination toward the instrument time requirements of this section.

PART 141—PILOT SCHOOLS

3. The authority citation for part 141 continues to read as follows:

Authority: 49 U.S.C. 106(f), 106(g), 40113, 44701-44703, 44707, 44709, 44711, 45102-45103, 45301-45302.

4. Revise § 141.41 to read as follows:

§ 141.41 Flight simulators, flight training devices, aviation training devices, and training aids.

An applicant for a pilot school certificate or a provisional pilot school certificate must show that its flight simulators, flight training devices, aviation training devices, training aids, and equipment meet the following requirements:

(a) Flight simulators and flight training devices. Each flight simulator and flight training device used to obtain flight training credit in an approved pilot training course curriculum must be:

(1) Qualified under part 60 of the chapter; and

(2) Approved by the Administrator for the tasks and maneuvers.

(b) Aviation training devices. Each aviation training device used to obtain flight training credit in an approved pilot training course curriculum must be evaluated, qualified, and approved by the Administrator.

(c) Training aids and equipment. Each training aid, including any audiovisual aid, projector, tape recorder, mockup, chart, or aircraft component listed in the approved training course outline, must be accurate and appropriate to the course for which it is used.

5. Amend Appendix C to part 141 by revising paragraph (b) in section 4 to read as follows:

Appendix C to Part 141—Instrument Rating Course

* * * * *

4. Flight training. * * *

(b) For the use of flight simulators, flight training devices, or aviation training devices—

(1) The course may include training in a flight simulator, flight training device, or aviation training device provided it is representative of the aircraft for which the course is approved, meets the requirements of this paragraph, and the training is given by an authorized instructor.

(2) Credit for training in a flight simulator that meets the requirements of § 141.41(a) cannot exceed 50 percent of the total flight training hour requirements of the course or of this section, whichever is less.

(3) Credit for training in a flight training device that meets the requirements of § 141.41(a), an aviation training device that meets the requirements of § 141.41(b), or a combination of these devices cannot exceed 40 percent of the total flight training hour requirements of the course or of this section, whichever is less.

(4) Credit for training in flight simulators, flight training devices, and aviation training devices if used in combination, cannot exceed 50 percent of the total flight training hour requirements of the course or of this section, whichever is less. However, credit for training in a flight training device or aviation training device cannot exceed the limitation provided for in paragraph (b)(3) of this section.

* * * * *

Issued in Washington, DC, under the authority of 49 U.S.C. 106(f), 44701(a)(5), and 44703(a), on November 28, 2014.
Michael P. Huerta,
Administrator.

[FR Doc. 2014-28485 Filed 12-2-14; 8:45 am]

BILLING CODE 4910-13-P